DEPARTMENT OF ENERGY

Federal Energy Regulatory Commission

[Docket No. ER97-324-008, et al.]

The Detroit Edison Company, et al.; Electric Rate and Corporate Filings

March 25, 2005.

The following filings have been made with the Commission. The filings are listed in ascending order within each docket classification.

1. The Detroit Edison Company, DTE Energy Trading, Inc., DTE Edison America, Inc., DTE Energy Marketing, Inc., DTE Georgetown, L.P., DTE River Rouge No. 1, L.L.C., Crete Energy Venture, L.L.C.

[Docket Nos. ER97-324-008, ER97-3834-014, ER98-3026-009, ER99-3368-005, ER00-1746-003, ER00-1816-004, ER02-963-005]

Take notice that on March 21, 2005, The Detroit Edison Company, DTE Energy Trading, Inc., DTE Edison America, Inc., DTE Energy Marketing, Inc., DTE Georgetown, L.P., DTE River Rouge No. 1, L.L.C., and Crete Energy Venture, L.L.C. (collectively, the DTE Parties) submitted an amendment to their December 23, 2004 filing of an updated generation market power analysis.

The DTE Parties state that copies of the filing were served on parties on the official service list in these proceedings.

Comment Date: 5 p.m. eastern time on March 31, 2005.

2. Southwest Power Pool, Inc.

[Docket No. ER99-4392-006]

Take notice that on March 14, 2005, Southwest Power Pool, Inc. (SPP) submitted a compliance filing pursuant to the Commission's Order issued February 11, 2005, 110 FERC ¶ 61,133. SPP requested an effective date of March 15, 2005 for its compliance filing.

SPP states it has served a copy of this filing on all parties to the service list in this proceeding and all affected state commissions and also states that a complete copy will be posted on the SPP Web site http://www.spp.org.

Comment Date: 5 p.m. eastern time on April 5, 2005.

3. PJM Interconnection, L.L.C., Commonwealth Edison Co. and Commonwealth Edison Co. of Indiana

[Docket Nos. ER03-1335-004 and ER04-367-006]

Take notice that on March 18, 2005, PJM Interconnection, L.L.C. (PJM), in compliance with the Commission's December 22, 2004, Order,109 FERC ¶ 61,338, and the extension granted in this proceeding on January 25, 2005, submitted a refund report.

PJM states that copies of this filing have been served on all parties to these proceedings.

Comment Date: 5 p.m. eastern time on April 8, 2005.

4. PJM Interconnection, L.L.C.

[Docket No. ER04-608-004]

Take notice that on March 18, 2005, PJM Interconnection, L.L.C. (PJM) submitted a further status report on the stakeholder process regarding a proposal to expand the behind the meter generation rules to enable certain generation associated with a distribution system to be classified as behind the meter generation.

Comment Date: 5 p.m. eastern time on April 8, 2005.

5. Midwest Independent Transmission System Operator, Inc.

[Docket No. ER04-691-030]

Take notice that on March 18, 2005, Potomac Economics, Ltd. (Potomac Economics), the Independent Market Monitor for the Midwest Independent Transmission System Operator, Inc., submitted a compliance filing pursuant to the Commission's direction in its December 20, 2004 Order, 109 FERC ¶ 61, 285 (2004).

Potomac Economics states it has served a copy of this filing on the official service list.

Comment Date: 5 p.m. eastern time on April 8, 2005.

6. Florida Power & Light Company—New England Division

[Docket No. ER04-714-005]

Take notice that on March 14, 2005, Florida Power & Light Company—New England Division (FPL-NED), submitted a refund report in compliance with the Commission's Order issued January 26, 2005 in Docket No. ER04-714-000, 110 FERC ¶ 61,064.

Comment Date: 5 p.m. eastern time on April 5, 2005.

7. Trimont Wind I LLC

[Docket No. ER05-481-001]

Take notice that on March 4, 2005, Trimont Wind I LLC submitted a compliance filing pursuant to the Commission's March 2, 2005 Order, FERC ¶ 61,209 (March 2, 2005).

Comment Date: 5 p.m. eastern time on April 5, 2005.

8. Allegheny Power

[Docket No. ER05-512-001]

Take notice that on March 18, 2005 Monongahela Power Company, The Potomac Edison Company, and West Penn Power Company, all doing business as Allegheny Power, filed a limited revision to each of eight First Revised Interconnection and Operating Agreements entered into with Allegheny Power's affiliate, Allegheny Energy Supply Company, LLC (AE Supply) originally filed on January 31, 2005, in Docket No. ER05-512-000. Allegheny Power states that the purpose of the limit revisions is to revise the monthly charge set forth in the Agreements. Allegheny Power requests an effective date of April 1, 2005 for the agreements.

Allegheny Power states that a copy of the filing has been sent to AE Supply and PJM Interconnection, LLC.

Comment Date: 5 p.m. eastern time on April 4, 2005.

9. Westar Energy, Inc.

[Docket No. ER05-601-001]

Take notice that on March 14, 2005, Westar Energy, Inc. (Westar) submitted for filing a corrected Notice of Cancellation for Rate Schedule FERC No. 276, the Coal Participation Power Agreement between Westar and the City of Burlington, Kansas originally filed on February 3, 2005.

Comment Date: 5 p.m. eastern time on April 5, 2005.

10. Fitchburg Gas and Electric Light Company

[Docket No. ER05-620-001]

Take notice that on March 18, 2005, Fitchburg Gas and Electric Light Company submitted its First Revised Agreement for Network Integration Transmission Service to Massachusetts Bay Transportation Authority under ISO New England, Inc. FERC Electric Tariff No. 3.

Fitchburg states that copies of the filing were served on Massachusetts Bay Transportation Authority and on the Massachusetts Department of Telecommunications and Energy.

Comment Date: 5 p.m. eastern time on April 8, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1487 Filed 4-1-05; 8:45 am]

BILLING CODE 6717-01-P